DEPARTMENT OF THE TREASURY

Internal Revenue Service

Appointment of Members of the Legal Division to the Performance Review Board, Internal Revenue Service

AGENCY: Office of the General Counsel, IRS, Treasury.

Under the authority granted to me as Chief Counsel of the Internal Revenue Service by the General Counsel of the Department of the Treasury by General Counsel Directive 15, pursuant to the Civil Service Reform Act, I have appointed the following persons to the Legal Division Performance Review Board, Internal Revenue Service Panel:

1. Brian Callanan, Treasury Deputy General Counsel

2. Donna Hansberry, IRS Independent Office of Appeals Director

3. Amalia Colbert, IRS Chief of Staff

Alternates:

Nikole Flax, Deputy Commissioner, Large Business & International.

Brian Sonfield, Assistant General Counsel (General Law, Ethics, and Regulation).

This publication is required by 5 U.S.C. 4314(c)(4).

Dated: September 19, 2019.
Michael Desmond,
Chief Counsel, Internal Revenue Service.

[FR Doc. 2019-21035 Filed 9-26-19; 8:45 am]

BILLING CODE 4830-01-P